ENVIRONMENTAL PROTECTION AGENCY

[FRL-9990-99-Region 10]

Issuance of a NPDES General Permit for Offshore Seafood Processors in Federal Waters Off the Coast of Washington and Oregon; Permit Number WAG520000

AGENCY: Environmental Protection Agency.

ACTION: Final NPDES General Permit.

SUMMARY: The Environmental Protection Agency (EPA) Region 10 is issuing a National Pollutant Discharge Elimination System (NPDES) General Permit to seafood processing vessels that discharge in Federal Waters off the coast of Washington and Oregon. The General Permit will authorize discharges of seafood processing waste from the vessels. This is the first issuance of this General Permit, and the first time this sector has received NPDES permit coverage off the coast of Oregon and Washington.

DATES: The issuance date of the General Permit is March 18, 2019, the date of publication of this notice. The General Permit will become effective on May 1, 2019.

ADDRESSES: Copies of the General Permit and Response to Comments are available upon request at the following address: USEPA Region 10, 1200 Sixth Avenue, Suite 155, OWW-191, Seattle, WA 98101. Electronic requests may be mailed to: Washington.audrey@epa.gov.

FOR FURTHER INFORMATION CONTACT: Technical Information: Joseph Ziobro at (206) 553-2723 ziobro.joseph@epa.gov. The General Permit, Response to Comments, and supporting documents may be found on the Region 10 website at: https://www.epa.gov/npdes-permits/proposed-npdes-general-permit-offshore-seafood-processors-federal-waters-coast.

SUPPLEMENTARY INFORMATION:

General Information

The NPDES General Permit authorizes discharges of seafood processing waste from seafood processing vessels that discharge in Federal Waters off the coast of Washington and Oregon. Federal Waters are defined as waters that are located between 3 and 200 miles from the land or baseline. The General Permit does not authorize discharges within the State of Washington or State of Oregon waters, this includes water within three miles of the land (i.e., the State's territorial waters). The State of Washington and the State of Oregon are the permitting authorities for these state waters.

The EPA completed two public comment periods for the draft General Permit. The first comment period was from August 24, 2015 to October 8, 2015 (80 FR 51253, August 24, 2015). Based on the comments received during the public comment period, the EPA revised the draft General Permit. The EPA took comment on those revisions during a second comment period from June 6, 2017 to August 3, 2017 (82 FR 27817, June 6, 2017).

This will be the first issuance of this General Permit. The offshore seafood processing operators requested NPDES permit coverage for operations discharging off the coast of Washington and Oregon, since these vessels are currently discharging without a permit in this area. The vessels that will be covered under this Permit are catcher-processors and motherships. These vessels fish and process the fish caught concurrently.

Other Legal Requirements

Regulatory Action

This action is not significant and was therefore not submitted to the Office of Management and Budget (OMB) for review under Executive Orders 12866, Regulatory Planning and Review, and 13563, Improving Regulation and Regulatory Review.

Coastal Zone Management Act—Federal Consistency Determination

Beginning in 2016, the EPA began engaging with the Washington Department of Ecology (Washington) and the Oregon Department of Land Conservation and Development (Oregon) in Coastal Zone Management Act (CZMA) consistency review pursuant to Section 307 of the CZMA and its implementing regulations at 15 CFR part 930, subpart C. In June 2017, the EPA provided the Washington Department of Ecology and Oregon Department of Land Conservation and Development with a Federal Consistency Determination for the permit action. The EPA determined that the General Permit is fully consistent with the enforceable polices of the approved coastal zone management programs administered by the States of Washington and Oregon. In September 2017, Ecology and Oregon sent conditional concurrences in response to the EPA's Consistency Determination. The EPA and Ecology resolved Ecology's conditional concurrence through the addition of monitoring requirements in the General Permit. However, the EPA and Oregon did not reach resolution; thus, Oregon's conditional concurrence became an objection. Therefore, as required by 15 CFR 930.31(d), the EPA is notifying potential users of the General Permit that the General Permit is not available for use in the State of Oregon unless the potential user provides Oregon with a consistency certification under 15 CFR part 930, subpart D and Oregon concurs. The EPA does not anticipate that potential users of the General Permit will need to provide Oregon with a consistency certification because the General Permit does not authorize discharges within the State of Oregon, including Oregon state waters, and NOAA has not authorized Oregon to review such activities under 15 CFR part 930, subpart D. As such, the EPA anticipates that it will be able to acknowledge permit coverage for individual operations promptly after receipt of a Notice of Intent.

Impact on Small Businesses

After review of the facts as presented in the permit applications, fact sheets, and response to comments document, the EPA concludes that this general NPDES permit will not have a significant impact on a substantial number of small entities. Moreover, this Permit does not present a significant administrative burden on regulated sources.

Dated: March 1, 2019.
Daniel D. Opalski,
Office Director, Office of Water and Watersheds, Region 10.

[FR Doc. 2019-05033 Filed 3-15-19; 8:45 am]

BILLING CODE 6560-50-P